DEPARTMENT OF TRANSPORTATION

Federal Highway Administration

Notice To Rescind a Notice of Intent for an Environmental Impact Statement for Proposed Highway and Light Rail Improvements in the Sr 32 Corridor Between Us 50 and Ir 275 in Hamilton and Clermont Counties, Ohio

AGENCY: Federal Highway Administration (FHWA), U.S. DOT.

ACTION: Notice to rescind a Notice of Intent (NOI) for an Environmental Impact Statement (EIS).

SUMMARY: A Notice of Intent to prepare an Environmental Impact Statement was published in the Federal Register on May 9, 2012. The Ohio Department of Transportation (ODOT) is issuing this notice to advise the public that ODOT will no longer prepare a Tier 2 EIS for proposed improvements to SR 32 from US 50 in Hamilton County east to IR 275 in Clermont County, because of potential significant environmental impacts and public controversy.

FOR FURTHER INFORMATION CONTACT: Timothy M. Hill, Administrator, ODOT Office of Environmental Services, 1980 West Broad Street, Columbus, Ohio 43223 Mail Stop #4170, Telephone: (614) 644-0377, Email: Tim.Hill@dot.ohio.gov.

SUPPLEMENTARY INFORMATION: On September 30, 2005, a Tier 1 EIS was published in the Federal Register (77 FR 27272). This document evaluated transportation needs and focused on broad issues such as mode choice, general location, preliminary costs, benefits, and impacts within a study area known as the Eastern Corridor, extending from downtown Cincinnati to western Clermont County. A Tier 1 Record of Decision issued on June 2, 2006 identified feasible multi-modal components to be advanced by mode and segment into Tier 2 NEPA analyses, including a new rail transit corridor composed of four implementation segments, improved bus transit, various local network improvements, and a new highway capacity corridor composed of five implementation segments. In the interim, new information came to light regarding the archaeological resources present in connection with the Hahn Archaeological District. The discovery of this information prompted a re-evaluation of the Tier 1 ROD to determine if the decision contained there-in remained valid and if a Supplemental EIS should be prepared prior to moving into a Tier 2 EIS. On February 9, 2012 FHWA recommended advancing the project into a Tier 2 EIS as the appropriate level of study and analysis to determine the significance of impacts to archaeological sites.

Recognizing the complex interests associated with the SR 32 Relocation Project, ODOT and FHWA in 2013 engaged the U.S. Institute for Environmental Conflict Resolution (USIECR) and a facilitation team as neutral, outside entities. Their purpose was to review the project and carry out a collaborative process to help inform future decisions on the feasibility of project development continuing on this project. The study identified key stakeholder interests associated with the SR 32 Relocation Project from their interviews, including the need to: Improve transportation safety and efficiency; protect the natural environment; facilitate regional economic development; protect quality of life issues; be fiscally responsible and allocate limited dollars to the most pressing needs; safeguard historic and archeological resources; and make decisions in a reasonable timeframe. Their situation assessment presented eight options to consider in deciding whether and how to move ahead with the SR 32 Project. These ranged from not proceeding with the project at this time to proceeding as planned to fulfill NEPA, with various options in between that considered reframing/rethinking aspects of the project. In conjunction with the situation assessment process, FHWA and ODOT coordinated with nine federally‐recognized tribes, state/federal resource/regulatory agencies and extensive coordination with the public and area stakeholders. Upon deliberation of the options to move forward, ODOT concluded that the original new alignment Tier 1 corridors for Segment II/III were deemed not reasonable due to their potential for significant environmental impacts and extensive public controversy.

ODOT is moving forward with the project development process to consider alternatives that have the potential for lower overall impacts, focusing on improvements to existing transportation corridors rather than new alignments through this environmentally complex area. Alignment alternatives on existing SR 32, US 50 and other roadways could include: Adding turn lanes, interchange improvements, widening to enhance capacity; minor realignments; improving signal timing and/or coordination; installing new signal(s); and other improvements. If any of these improvements require the preparation of an Environmental Impact Statement, future Notices of Intent may be filed.

The environmental review, consultation, and other actions required by applicable Federal environmental laws for this project are being, or have been, carried-out by ODOT pursuant to 23 U.S.C. 327 and a Memorandum of Understanding dated December 11, 2015, and executed by FHWA and ODOT.

(Catalog of Federal Domestic Assistance Program Number 20.205, Highway Planning and Construction. The regulations implementing Executive Order 12372 regarding intergovernmental consultation on Federal programs and activities apply to this program.)

Issued on: September 6, 2016.
Robert L. Griffith,
Acting Division Administrator, Federal Highway Administration, Columbus, Ohio.

[FR Doc. 2016-22910 Filed 9-22-16; 8:45 am]

BILLING CODE 4910-22-P